DEPARTMENT OF ENERGY

Federal Energy Regulatory Commission

Combined Notice of Filings #1

Take notice that the Commission received the following electric corporate filings:

Docket Numbers: EC14-78-005.

Applicants: NRG Energy, Inc., Clearway Energy, Inc.

Description: Request for Termination of Blanket Authorization and Conditions of NRG Energy, Inc., et al.

Filed Date: 9/21/18.

Accession Number: 20180921-5160.

Comments Due: 5 p.m. ET 10/12/18.

Docket Numbers: EC18-159-000.

Applicants: AltaGas San Joaquin Energy Inc.

Description: Application for Authorization Under Section 203 of the Federal Power Act of AltaGas San Joaquin Energy Inc.

Filed Date: 9/21/18.

Accession Number: 20180921-5233.

Comments Due: 5 p.m. ET 10/12/18.

Docket Numbers: EC18-160-000.

Applicants: Alpaugh 50, LLC, Alpaugh North, LLC, Broken Bow Wind II, LLC, CED White River Solar, LLC, Copper Mountain Solar 1, LLC, Copper Mountain Solar 2, LLC, Copper Mountain Solar 3, LLC, Copper Mountain Solar 4, LLC, Great Valley Solar 1, LLC, Great Valley Solar 2, LLC, Great Valley Solar 3, LLC, Mesquite Solar 1, LLC, Mesquite Solar 2, LLC, Mesquite Solar 3, LLC, SEP II, LLC.

Description: Application for Authorization of Transaction Pursuant to Section 203 of the Federal Power Act and Request for Expedited Action of Alpaugh 50, LLC, et. al.

Filed Date: 9/21/18.

Accession Number: 20180921-5235.

Comments Due: 5 p.m. ET 10/12/18.

Take notice that the Commission received the following electric rate filings:

Docket Numbers: ER18-2214-001.

Applicants: Stryker 22, LLC.

Description: Tariff Amendment: Supplemental—MBRA Tariff to be effective 9/25/2018.

Filed Date: 9/24/18.

Accession Number: 20180924-5029.

Comments Due: 5 p.m. ET 10/15/18.

Docket Numbers: ER18-2216-001.

Applicants: Plumsted 537 LLC.

Description: Tariff Amendment: Supplemental—MBRA Tariff to be effective 9/22/2018.

Filed Date: 9/21/18.

Accession Number: 20180921-5210.

Comments Due: 5 p.m. ET 10/12/18.

Docket Numbers: ER18-2464-000.

Applicants: Southwest Power Pool, Inc.

Description: § 205(d) Rate Filing: 2482R1 KCPL & Westar Energy Interconnection & Interchange Ag to be effective 12/1/2018.

Filed Date: 9/24/18.

Accession Number: 20180924-5001.

Comments Due: 5 p.m. ET 10/15/18.

Docket Numbers: ER18-2465-000.

Applicants: Potter Road Powerhouse LLC.

Description: Baseline eTariff Filing: Application and MBR Tariff to be effective 9/25/2018.

Filed Date: 9/24/18.

Accession Number: 20180924-5054.

Comments Due: 5 p.m. ET 10/15/18.

Docket Numbers: ER18-2466-000.

Applicants: Federal Way Powerhouse LLC.

Description: Baseline eTariff Filing: Application and MBR Tariff to be effective 9/25/2018.

Filed Date: 9/24/18.

Accession Number: 20180924-5055.

Comments Due: 5 p.m. ET 10/15/18.

Docket Numbers: ER18-2467-000.

Applicants: PJM Interconnection, L.L.C.

Description: Tariff Cancellation: Notice of Cancellation of Original Service Agreement No. 3408; Queue No. X3-002 to be effective 10/1/2018.

Filed Date: 9/24/18.

Accession Number: 20180924-5113.

Comments Due: 5 p.m. ET 10/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2018.
Nathaniel J. Davis, Sr.,
Deputy Secretary.

[FR Doc. 2018-21127 Filed 9-27-18; 8:45 am]

BILLING CODE 6717-01-P